DEPARTMENT OF COMMERCE

International Trade Administration

[A-560-803]

Notice of Rescission of Antidumping Duty Administrative Review: Extruded Rubber Thread From Indonesia

AGENCY: Import Administration, International Trade Administration, Department of Commerce.

ACTION: Notice of rescission of antidumping duty administrative review.

SUMMARY: On June 25, 2002, the Department of Commerce (“the Department”) initiated an administrative review of the antidumping duty order on extruded rubber thread (“ERT”) from Indonesia, covering the period May 1, 2001, through April 30, 2002, and one manufacturer/exporter of the subject merchandise, P.T. Swasthi Parama Mulya (“Swasthi”). See Initiation of Antidumping and Countervailing Duty Administrative Reviews and Requests for Revocation in Part, 67 FR 42753 (June 25, 2002). This review has now been rescinded due to Swasthi's withdrawal of its request for an administrative review.

EFFECTIVE DATE: January 30, 2003.

FOR FURTHER INFORMATION CONTACT: Lyman Armstrong or Jim Neel, AD/CVD Enforcement, Office 6, Group II, Import Administration, International Trade Administration, U.S. Department of Commerce, 14th Street and Constitution Avenue, NW., Washington, DC 20230; telephone: (202) 482-3601 or (202) 482-4161, respectively.

SUPPLEMENTARY INFORMATION:

Case History

On May 31, 2002, the Department received a letter from Swasthi requesting an administrative review of the antidumping order on ERT from Indonesia. On June 25, 2002, the Department initiated an administrative review of this order for the period May 1, 2001, through April 30, 2002. See Initiation of Antidumping and Countervailing Duty Administrative Reviews and Request for Revocation in Part, 67 FR 42753 (June 25, 2002). On August 16, 2002, the Department sent the antidumping questionnaires to Swasthi. On August 29, 2002, Swasthi submitted a letter requesting to withdraw from the above referenced administrative review. See letter from Swasthi to the Department (August 29, 2002).

Scope of the Review

For purposes of this review, the product covered is ERT from Indonesia. ERT is defined as vulcanized rubber thread obtained by extrusion of stable or concentrated natural rubber latex of any cross sectional shape, measuring from 0.18 mm, which is 0.007 inches or 140 gauge, to 1.42 mm, which is 0.056 inch or 18 gauge, in diameter.

ERT is currently classified under subheading 4007.00.00 of the Harmonized Tariff Schedule of the United States (“HTSUS”). Although the HTSUS subheading is provided for convenience and customs purposes, the written description of the scope of this review is dispositive.

Rescission of Review

Within 90 days of the June 25, 2002 notice of initiation, Swasthi requested to withdraw its request for an administrative review. See Letter from Swasthi to the Department (August 29, 2002).

In accordance with the Department's regulations, and consistent with its practice, the Department hereby rescinds the administrative review of ERT from Indonesia for the period May 1, 2001, to April 30, 2002. See 19 CFR section 351.213(d)(1), which states in pertinent part: “The Secretary will rescind an administrative review under this section, in whole or in part, if a party that requested a review withdraws the request within 90 days of the date of publication of notice of initiation of the requested review.”

This notice is in accordance with section 751(a)(1) of the Tariff Act of 1930 as amended and section 351.213(d) of the Department's regulations.

Dated: January 10, 2003.
Holly A. Kuga,
Acting Deputy Assistant Secretary for Import Administration.

[FR Doc. 03-2197 Filed 1-29-03; 8:45 am]

BILLING CODE 3510-DS-P